ENVIRONMENTAL PROTECTION AGENCY

[EPA-HQ-OAR-2004-0065; FRL-9255-3]

Agency Information Collection Activities; Submission to OMB for Review and Approval; Comment Request; Application Requirements for the Approval and Delegation of Federal Air Toxics Programs to State, Territorial, Local, and Tribal Agencies (Renewal), EPA ICR Number 1643.07, OMB Control Number 2060-0264

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before February 22, 2011.

ADDRESSES: Submit your comments, referencing docket ID number EPA-HQ-OAR-2004-0065, to (1) EPA online using http://www.regulations.gov (our preferred method), or by e-mail to a-and-r-Docket@epa.gov, or by mail to: EPA Docket Center (EPA/DC), Environmental Protection Agency, Air and Radiation Docket and Information Center, Mail Code 28221T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Tina Ndoh, OAQPS/SPPD, D205-02, Environmental Protection Agency, RTP, NC 27711; telephone number: 919-541-2750; fax number: 919-541-6500; e-mail address: ndoh.christina@epa.gov.

SUPPLEMENTARY INFORMATION: EPA has submitted the following ICR to OMB for review and approval according to the procedures prescribed in 5 CFR 1320.12. On October 20, 2010 (75 FR 64722), EPA sought comments on this ICR pursuant to 5 CFR 1320.8(d). EPA received no comments. Any additional comments on this ICR should be submitted to EPA and OMB within 30 days of this notice.

EPA has established a public docket for this ICR under docket ID number EPA-HQ-OAR-2004-0065, which is available for public viewing online at http://www.regulations.gov, in person viewing at the Air and Radiation Docket in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Air and Radiation Docket is (202) 566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov, as EPA receives them and without change, unless the comment contains copyrighted material, Confidential Business Information (CBI), or other information whose public disclosure is restricted by statute. For further information about the electronic docket, go to http://www.regulations.gov.

Title: Application Requirements for the Approval and Delegation of Federal Air Toxics Programs to State, Territorial, Local, and Tribal Agencies (Renewal).

ICR Numbers: EPA ICR Number 1643.07, OMB Control Number 2060-0264.

ICR Status: This ICR is scheduled to expire on January 31, 2011. Under OMB regulations, the Agency may continue to conduct or sponsor the collection of information while this submission is pending at OMB. An Agency may not conduct or sponsor, and a person is not required to respond to, a collection of information unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: This information collection is an application from State, territorial, local, or tribal agencies (S/L/Ts) for delegation of regulations developed under section 112 of the Clean Air Act (Act). The five options for delegation are straight delegation, rule adjustment, rule substitution, equivalency by permit, or state program approval. The information is needed and used to determine if the entity submitting an application has met the criteria established in the subpart E rule, codified as 40 CFR part 63, subpart E, in accordance with section 112(l) of the Act. This information is necessary and required for the Administrator to determine the acceptability of approving the S/L/T's rules, requirements or programs in lieu of the Federal section 112 rules or programs. Additionally, it is also necessary for the proper performance of our function, and will be used to ensure that the subpart E approval criteria have been met. The collection of information is authorized under 42 U.S.C. 7401-7671q.

Burden Statement: The annual public reporting and recordkeeping burden for this collection of information is estimated to average 18 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: State, territorial, local, or tribal agencies.

Estimated Number of Respondents: 119 S/L/Ts for maximum achievable control technology standards and 79 S/L/Ts for area source standards per year.

Frequency of Response: Occasionally, one time per delegation request.

Estimated Total Annual Hour Burden: 37,107 hours.

Estimated Total Annual Cost: About $1,355,100. This includes an estimated labor burden cost of $1,352,000 and an estimated cost of $3,100 for operation and maintenance costs resulting from photocopying and postage expenses.

Changes in the Estimates: There is a decrease of 25,737 hours in the total estimated burden currently identified in the OMB Inventory of Approved ICR Burdens.

The change in burden results from: (1) A decrease in the number of S/L/Ts taking delegation, (2) an increase in the number of occurrences related to the number of National Emission Standards for Hazardous Air Pollutants (NESHAP) delegated, and (3) a change in the distribution of S/L/Ts using each option when delegating Maximum Achievable Control Technologies (MACTs). These changes are discussed below.

The total number of occurrences increased from 399 to 5,119 for MACT standards partially due to the number of MACT standards being delegated increasing from 24 to 40. However, the number of delegations decreased from 124 to 119. The significant increase was largely due to a calculation error in determining the number of straight delegations in the previous ICR. The previous ICR estimated 12 occurrences of straight delegations during the clearance period while we calculated 4,719 occurrences for the upcoming 3-year period. The total number of occurrences decreased for area source standards from 4,177 to 920 due to the number of area source standards decreasing from 40 to 11 and number of delegations dropping from 99 to 79.

Second, based on the experience the EPA's Regional Air Toxics Coordinators have had with the subpart E program, S/L/Ts' use of the various delegation options has changed for MACTs. Straight Delegation is still the primary delegation mechanism and has significantly increased in frequency since the previous ICR. However, we found that S/L/Ts are using the Rule Adjustment Option and the Rule Substitution Option with greater frequency than previously assumed. Generally, sources do not use the State Program Approval Option.

Overall, the respondent hour burden has decreased. While there is an overall increase in the amount of occurrences, the overall burden decreases by 41 percent due to the significant increase in use of the straight delegation option which requires less hours than the other options.

While mailing costs have increased, we are requesting a decrease in the reporting and recordkeeping cost burden due to an error in the postal costs reported in the previous ICR. Some of the EPA mailing costs were incorrectly included in the sums for respondent costs, thus decreasing the overall costs.

Dated: January 12, 2011.
John Moses,
Director, Collection Strategies Division.

[FR Doc. 2011-1126 Filed 1-19-11; 8:45 am]

BILLING CODE 6560-50-P